OVERSEAS PRIVATE INVESTMENT CORPORATION

Sunshine Act Meeting

Time and date: Thursday, April 24, 2003, 1:30 p.m. (OPEN Portion), 1:45 p.m. (CLOSED Portion).

Place: Offices of the Corporation, Twelfth Floor Board Room, 1100 New York Avenue, NW., Washington, DC.

Status: Meeting OPEN to the Public from 1:30 p.m. to 1:45 p.m. Closed portion will commence at 1:45 p.m. (approx.).

Matters to be Considered: 1. President's Report.

2. Testimonial Jon M. Huntsman, Jr.

3. Approval of January 30, 2003 Minutes (Open Portion).

Further Matters to be Considered: (Closed to the Public 1:45 p.m.)

1. Finance Project in Ecuador.

2. Approval of January 30, 2003 Minutes (Open Portion).

3. Pending Major Projects.

4. Reports.

FOR FURTHER INFORMATION CONTACT: Information on the meeting may be obtained from Connie M. Downs at (202) 336-8438.

Dated: April 11, 2003.
Connie M. Downs,
Corporate Secretary, Overseas Private Investment Corporation.

[FR Doc. 03-9323 Filed 4-11-03; 12:16 pm]

BILLING CODE 3210-01-M